OFFICE OF PERSONNEL MANAGEMENT

5 CFR Part 532

[Docket ID: OPM-2025-0010]

RIN 3206-AO83

Prevailing Rate Systems; Abolishment of Hennepin, Minnesota, as a Nonappropriated Fund Federal Wage System Wage Area

AGENCY: Office of Personnel Management.

ACTION: Final rule; correcting amendments.

SUMMARY: The Office of Personnel Management (OPM) is issuing a final rule to abolish the Hennepin, Minnesota, nonappropriated fund (NAF) Federal Wage System (FWS) wage area and define most of its counties to the nearest NAF FWS wage areas. Those counties without NAF FWS employment would no longer be defined to a NAF wage area. These changes are necessary because NAF FWS employment in the survey area has been declining, and the local activities no longer have the capability to conduct local wage surveys. This rule also makes correcting amendments related to four prior final rules revising other NAF FWS wage areas.

DATES: Effective date: This regulation is effective October 9, 2025.

Applicability date: This change applies on the first day of the first applicable pay period beginning on or after October 9, 2025.

FOR FURTHER INFORMATION CONTACT: Ana Paunoiu, by telephone at (202) 606-2858 or by email at paypolicy@opm.gov.

SUPPLEMENTARY INFORMATION: On June 2, 2025, OPM issued a proposed rule (90 FR 23292) to abolish the Hennepin, MN, NAF FWS wage area and define Hennepin, Morrison, and Stearns Counties, to the Grand Forks, North Dakota, NAF FWS wage area; and Monroe County, Wisconsin, to the Lake, Illinois, NAF FWS wage area. Murray, Ramsey and St. Louis Counties, MN; and Juneau and Polk Counties, WI, will no longer be defined to a NAF wage area because those counties have no NAF FWS employment. The Federal Prevailing Rate Advisory Committee, the national labor-management committee responsible for advising OPM on matters concerning the pay of FWS employees, reviewed and recommended these changes by consensus.

In addition, this final rule makes revisions to the “Appendix B to Subpart B of Part 532—Nationwide Schedule of Nonappropriated Fund Regular Wage Surveys,” to correct inadvertent errors in prior final rules related to FWS wage areas. Specifically, this final rule: (1) removes “Allegheny” under the State of Pennsylvania because the final rule (88 FR 78223), published on November 15, 2023, abolishing the Allegheny, PA, NAF FWS wage area, inadvertently omitted deleting this entry from Appendix B; (2) revises the name of the “Arapahoe-Denver, Colorado,” NAF FWS wage area to read “Arapahoe” because the final rule (89 FR 67519), published on August 21, 2024, removing Denver County from the Arapahoe-Denver, CO, NAF FWS wage area and changing the name of the Arapahoe-Denver NAF FWS wage area to “Arapahoe,” inadvertently omitted revising the name in Appendix B; (3) removes “Frederick” under the State of Maryland because the final rule (89 FR 67829), published on August 22, 2024, abolishing the Frederick, MD, NAF FWS wage area inadvertently omitted deleting this entry from Appendix B; and (4) removes “Calhoun” under the State of Alabama because the final rule (89 FR 93147), published on November 26, 2024, abolishing the Calhoun, AL, NAF FWS wage area, inadvertently omitted deleting this entry from Appendix B.

The proposed rule had a 30-day comment period, during which OPM received no comments. Therefore, this final rule adopts the proposed rule at 90 FR 23292 without change.

Expected Impact of This Rule

Section 5343 of title 5, U.S. Code, provides OPM with the authority and responsibility to define the boundaries of NAF FWS wage areas. Any changes in wage area definitions can have the long-term effect of increasing pay for Federal employees in affected locations. OPM expects this final rule to impact approximately 98 NAF FWS employees. Considering the small number of employees affected, OPM does not anticipate this rule will substantially impact local economies or have a large impact in local labor markets. As this and future wage area changes may impact higher volumes of employees in geographical areas and could rise to the level of impacting local labor markets, OPM will continue to study the implications of such impacts in this or future rules as needed.

Regulatory Review

OPM has examined the impact of this rulemaking as required by Executive Orders 12866 and 13563 which direct agencies to assess all costs and benefits of available regulatory alternatives and, if regulation is necessary, to select regulatory approaches that maximize net benefits (including potential economic, environmental, public health and safety effects, distributive impacts, and equity). This rulemaking is not a “significant regulatory action” under Executive Order 12866. The rule is not an E.O. 14192 regulatory action because it is not significant under E.O. 12866.

Regulatory Flexibility Act

The Director of OPM certifies that this rule will not have a significant economic impact on a substantial number of small entities.

Federalism

OPM has examined this rule in accordance with Executive Order 13132, Federalism, and has determined that this rule will not have any negative impact on the rights, roles and responsibilities of State, local, or Tribal governments.

Civil Justice Reform

This rulemaking meets the applicable standard set forth in Executive Order 12988.

Unfunded Mandates Act of 1995

This rulemaking will not result in the expenditure by State, local, and Tribal governments, in the aggregate, or by the private sector, of $100 million or more in any year in 1995 dollars, updated annually for inflation. That threshold is currently approximately $206 million. This rulemaking will not significantly or uniquely affect small governments. Therefore, no actions were deemed necessary under the provisions of the Unfunded Mandates Reform Act of 1995.

Congressional Review Act

Subtitle E of the Small Business Regulatory Enforcement Fairness Act of 1996 (known as the Congressional Review Act or CRA) (5 U.S.C. 801 et seq.) requires most final rules to be submitted to Congress before taking effect. OPM will submit to Congress and the Comptroller General of the United States a report regarding the issuance of this rule before its effective date. The Office of Information and Regulatory Affairs in the Office of Management and Budget has determined that this rule is not a major rule as defined by the CRA (5 U.S.C. 804).

Paperwork Reduction Act

This rulemaking does not impose any reporting or record-keeping requirements subject to the Paperwork Reduction Act.

List of Subjects in 5 CFR Part 532

Administrative practice and procedure, Freedom of information, Government employees, Reporting and recordkeeping requirements, Wages.

Office of Personnel Management
Jerson Matias,
Federal Register Liaison.

Accordingly, OPM is amending 5 CFR part 532 as follows:

PART 532—PREVAILING RATE SYSTEMS

1. The authority citation for part 532 continues to read as follows:

Authority: 5 U.S.C. 5343, 5346; § 532.707 also issued under 5 U.S.C. 552.

2. In Appendix B to subpart B, amend the table by:

a. Revising the wage survey listings for Alabama, Colorado, and Maryland;

b. Removing the wage survey listings for Minnesota, and;

c. Revising the wage survey listings for Pennsylvania.

The revisions read as follows:

Appendix B to Subpart B of Part 532—Nationwide Schedule of Nonappropriated Fund Regular Wage Surveys

* * * * *

State | Wage area | Beginning month of survey | Calendar year of full-scale survey odd or even
Alabama | Madison | April | Even.
| Montgomery | April | Odd.
* * * * * * *
Colorado | Arapahoe | July | Even.
| El Paso | July | Even.
* * * * * * *
Maryland | Anne Arundel | August | Even.
| Charles-St. Mary's | August | Even.
| Harford | May | Even.
| Montgomery-Prince George's | August | Even.
* * * * * * *
Pennsylvania | Cumberland | May | Even.
| York | May | Even.
* * * * * * *

3. In Appendix D to subpart B, amend the table by revising the wage area listing for the States of Illinois and North Dakota to read as follows:

Appendix D to Subpart B of Part 532—Nonappropriated Fund Wage and Survey Areas

* * * * *

Definitions of Wage Areas and Wage Area Survey Areas

* * * * *

Illinois

Lake

Survey Area

Illinois:

Lake

Area of Application. Survey area plus:

Illinois:

Cook

Rock Island

Vermilion

Indiana:

St. Joseph

Iowa:

Johnson

Michigan:

Dickinson

Marquette

Wisconsin:

Brown

Dane

Milwaukee

Monroe

St. Clair

Survey Area

Illinois:

St. Clair

Area of Application. Survey area plus:

Illinois:

Madison

Williamson

Indiana:

Vanderburgh

Missouri (City):

St. Louis

Missouri (County):

St. Louis

* * * * *

North Dakota

Grand Forks

Survey Area

North Dakota:

Grand Forks

Area of Application. Survey area plus:

Minnesota:

Hennepin

Morrison

Stearns

North Dakota:

Cass

Cavalier

Pembina

Steele

Ward

Survey Area

North Dakota:

Ward

Area of Application. Survey area plus:

North Dakota:

Divide

* * * * *

[FR Doc. 2025-17309 Filed 9-8-25; 8:45 am]

BILLING CODE 6325-39-P